NATIONAL ARCHIVES AND RECORDS ADMINISTRATION

[NARA-20-0017; NARA-2020-063]

Records Schedules; Availability and Request for Comments

AGENCY: National Archives and Records Administration (NARA).

ACTION: Notice of availability of proposed records schedule; extension of comment period.

SUMMARY: We are extending the deadline for submitting comments on the Department of Homeland Security (DHS), U.S. Customs and Border Patrol (CBP), proposed records schedule covering Internal Investigation Files (DAA-0568-2018-0001), which was published in the Federal Register on August 4, 2020.

DATES: We are extending the original comment period (published August 4, 2020, at 85 FR 47248) for the proposed CBP records schedule to no later than 11:59 p.m. Eastern Time on September 30, 2020.

ADDRESSES: You may submit comments by either of the following methods. You must cite the control number for this records schedule, which is DAA-0568-2018-0001.

• Federal eRulemaking Portal: http://www.regulations.gov.

• Mail: Records Management Operations (ACR); National Archives and Records Administration; 8601 Adelphi Road; College Park, MD 20740-6001.

FOR FURTHER INFORMATION CONTACT: Kimberly Keravuori, Regulatory and External Policy Program Manager, by email at regulation_comments@nara.gov, or by telephone at 301.837.3151. For information about records schedules, contact Records Management Operations by email at request.schedule@nara.gov, by mail at the address above, or by phone at 301.837.1799.

SUPPLEMENTARY INFORMATION: On August 4, 2020, we issued a notice listing proposed records schedules open for comment (85 FR 47248, FDMS Docket number NARA-20-0017; NARA number NARA-2020-055). We solicited public comments on a number of pending records schedules via that notice, including a DHS CBP schedule covering internal investigations. The comment period for this schedule was due to end on September 18, 2020. However, the Office of the Chief Records Officer received a request to extend the comment period for this records schedule so that interested commenters could have additional time to review and comment on this proposed records schedule. Given the potential benefit of thoroughly developed public comments, and due to the widespread disruption caused by the coronavirus, we believe it is beneficial to provide additional time to ensure that members of the public have sufficient time to comment on this schedule. We are therefore extending the deadline for submitting comments on this schedule to no later than 11:59 p.m. Eastern Time on September 30, 2020.

Laurence Brewer,
Chief Records Officer for the U.S. Government.

[FR Doc. 2020-20656 Filed 9-17-20; 8:45 am]

BILLING CODE 7515-01-P